DEPARTMENT OF LABOR

Employment and Training Administration

[TA-W-73,301]

Shieldalloy Metallurgical Corporation, A Subsidiary of AMG, Newfield, NJ; Notice of Affirmative Determination Regarding Application for Reconsideration

By application dated August 29, 2010, a worker requested administrative reconsideration of the negative determination regarding workers' eligibility to apply for Trade Adjustment Assistance (TAA) applicable to workers and former workers of the subject firm. The determination was issued on July 30, 2010, and the Notice of determination was published in the Federal Register on August 13, 2010 (75 FR 49532). The workers provide storage services.

The negative determination was based on the finding that a shift of production to Canada in 2006 did not contribute importantly to separations at the subject firm because, during the period of the investigation, the subject firm did not produce an article; rather, the subject firm provided storage services for other subsidiaries of AMG, the parent company, and those storage services were shifted to an affiliate domestic facility. In addition, the subject firm did not supply services to a firm that employed a worker group that is currently eligible to apply for TAA.

The request for reconsideration alleges that the workers did not supply the services identified in the determination. The worker also states that the subject firm is in the process of permanently decommissioning and shifted operations to various facilities throughout the United States as well as Canada, Brazil, England, and Mexico.

The Department has carefully reviewed the request for reconsideration and the existing record, and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 7th day of October 2010.
Del Min Amy Chen,
Certifying Officer, Office of Trade Adjustment Assistance.

[FR Doc. 2010-26904 Filed 10-22-10; 8:45 am]

BILLING CODE 4510-FN-P